ENVIRONMENTAL PROTECTION AGENCY

[ER-FRL-6695-2]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at 202-564-7167. An explanation of the ratings assigned to draft environmental impact statements (EISs) was published in FR dated April 6, 2007 (72 FR 17156).

Draft EISs

EIS No. 20070421, ERP No. D-BLM-K60039-NV, Toqoup Energy Project, Construction and Operation a 750 Megawatt Coal-Fired Generation Facility, Right-of-Way Grant, Lincoln and Clark Counties, NV.

Summary: EPA expressed environmental concerns about potential adverse impacts to aquatic resources, uncertainty of groundwater availability, and carbon dioxide emissions. We recommend further discussion on renewable energy resources, groundwater protection, and issues associated with greenhouse gas emissions and climate change. Rating EC2.

EIS No. 20070422, ERP No. D-FHW-E40817-TN, U.S. 127/TN 28 Improvements, from 1-40 at Crossville to TN 62 at Clarkrange, Funding, U.S. Army COE Section 10 and 404 Permits, Cumberland and Fentress Counties, TN.

Summary: EPA expressed environmental concerns about potential water quality impacts associated with construction and future operation. Rating EC1.

EIS No. 20070439, ERP No. D-BOP-E81040-AL, Aliceville, Alabama Area, Proposed Federal Correctional Complex, To Address the Growing Federal Inmate Population, Pickens County, AL.

Summary: EPA expressed environmental concerns about wetland and water quality impacts, and requested that the project incorporate resource conservation and pollution strategies into the design, siting, and operation of the facility. Rating EC1.

EIS No. 20070492, ERP No. D-DHS-G11050-TX, Rio Grande Valley Sector Project, Construction, Maintenance, and Operation of Tactical Infrastructure, U.S./Mexico International Border in Southernmost Portions of Starr, Hidalgo and Cameron Counties, TX.

Summary: EPA expressed environmental concerns about natural resource impacts, and requested additional information on this issue as well as, cumulative impacts, endangered species and environmental justice. Rating EC2.

Final EISs

EIS No. 20070474, ERP No. F-COE-E39070-TN, Center Hill Dam and Lake Project, Changes to Operational Guide Curves Pool Elevations, Chancey Fork River and Cumberland River, Dekalb County, TN.

Summary: EPA continues to have environmental concerns about water quantity and water quality impacts. EIS No. 20070478, ERP No. F-AFS-L61323-AK, Helicopter Access to Conduct Forest Inventory and Analysis (FIA) in Wilderness, in Tongass and Chugach National Forest, AK.

Summary: EPA does not object to the proposed action.

EIS No. 20070501, ERP No. F-BLM-K65289-NV, Ely District Resource Management Plan, Implementation, White Pine, Lincoln Counties and a Portion of Nye County, NV.

Summary: No formal comment letter was sent to the lead agency.

EIS No. 20070502, ERP No. F-FHW-H40185-00, U.S. Highway 34, Plattsmouth Bridge Study, over the Missouri River between U.S. 75 and I-29, Funding, Coast Guard Permit, U.S. Army COE 10 and 404 Permits, Cass County, NE and Mills County, IA.

Summary: EPA does not object to the preferred alternative.

EIS No. 20070507, ERP No. F-BLM-K65326-CA, Eastern San Diego County Resource Management Plan, Implementation, El Centro Field Office, San Diego County, CA.

Summary: No formal comment letter was sent to the preparing agency.

EIS No. 20070543, ERP No. F-AFS-K65330-00, Sierra Nevada Forests Management Indicator Species Amendment (MIS), Proposes to Adopt a Common List of Management Indicator Species (MIS), and Amending Land & Resource Management Plans for Following Ten Forests: Eldorado, Inyo, Lassen, Modoc, Plumas, Sequoia, Sierra, Stanislaus and Tahoe National Forests and Lake Tahoe Basin Management Unit, Several Counties, CA and Douglas, Esmeralda, Mineral Counties, NV.

Summary: EPA continues to have environmental concerns. EPA recommended the ROD identify clear thresholds that trigger management evaluation and changes, redirect saved resources to monitoring and management of at-risk species and sensitive habitats. In addition, the ROD should describe how the effects of historical disturbances will be measured, include periodic field assessment and recalibration or validation of monitoring and assessment models, and make at-risk watersheds and those with unique and sensitive habitats a management priority for more frequent field-verification.

EIS No. 20070558, ERP No. F-NPS-D61057-VA, Great Falls Park General Management Plan, Implementation, George Washington Parkway, Fairfax County, VA.

Summary: EPA does not object to the selected action.

EIS No. 20070515, ERP No. FS-FHW-H40088-IA, IA-100 Extension Around Cedar Rapids, Edgewood Road to U.S. 30, Reevaluation of the Project Corridor and Changes in Environmental Requirements, Funding and U.S. Army COE 404 Permit Issuance, Linn County, IA.

Summary: EPA's previously expressed concerns have been adequately addressed; therefore, EPA does not object to the proposed action.

Dated: January 15, 2008.
Robert W. Hargrove,
Director, NEPA Compliance Division, Office of Federal Activities.

[FR Doc. E8-877 Filed 1-17-08; 8:45 am]

BILLING CODE 6560-50-P